DEPARTMENT OF THE INTERIOR

Bureau of Indian Affairs

[201A2100DD/AAKC001030/A0A51010.999900]

Proclaiming Certain Lands as Reservation for the Sault Ste. Marie Tribe of Chippewa Indians of Michigan

AGENCY: Bureau of Indian Affairs, Interior.

ACTION: Notice of reservation proclamation.

SUMMARY: This notice informs the public that the Assistant Secretary—Indian Affairs proclaimed approximately 5.88 acres, more or less, an addition to the reservation of the Sault Ste. Marie Tribe of Chippewa Indians on April 13, 2020.

FOR FURTHER INFORMATION CONTACT: Ms. Sharlene M. Round Face, Bureau of Indian Affairs, Division of Real Estate Services, sharlene.roundface@bia.gov, or telephone (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Sault Ste. Marie Tribe Reservation for the Sault Ste. Marie Tribe of Chippewa Indians of Michigan, Chippewa County, State of Michigan.

Sault Ste. Marie Tribe Reservation for the Sault Ste. Marie Tribe of Chippewa Indians of Michigan

1 Parcel of land

Michigan Meridian

Chippewa County, Michigan

The following lands situated in Soo Township, Section 24, Township 47 North, Range 1 West, of Chippewa County, State of Michigan, Michigan Meridian Michigan:

Parcel A: Lots 1 to 25 inclusive, Block 3, Charles City Iowa Addition, as recorded in Liber 2 of Plats, page 28, Chippewa County Records.

Parcel B: Lots 4 to 30, inclusive, Block 4, Charles City Iowa Addition, as recorded in Liber 2 of Plats, page 28, Chippewa County Records.

The above described lands contain a total of 5.88 acres, more or less, which are subject to all valid rights, reservations, rights-of-way, and easements of record.

This proclamation does not affect title to the lands described above, nor does it affect any valid existing easements for public roads, highways, public utilities, railroads and pipelines, or any other valid easements or rights-of-way or reservations of record.

Tara Sweeney,
Assistant Secretary—Indian Affairs.

[FR Doc. 2020-09387 Filed 5-1-20; 8:45 am]

BILLING CODE 4337-15-P